DEPARTMENT OF TRANSPORTATION

Federal Railroad Administration

[Docket Number FRA-2017-0076]

Petition for Waiver of Compliance

Under Part 211 of Title 49 of the Code of Federal Regulations (CFR), this document provides the public notice that on July 24, 2017 the New York Susquehanna & Western Technical & Historical Society (THSX) petitioned the Federal Railroad Administration (FRA) for a waiver of compliance from certain provisions of the Federal railroad safety regulations contained at Title 49 Code of Federal Regulations Part 230—Steam Locomotive Inspection and Maintenance Standards. FRA assigned the petition docket number FRA-2017-0076.

THSX maintains and operates No. 142, a 2-8-2 “Mikado” type steam locomotive built in 1989 by the Tangshan Locomotive Works in China for the New York, Susquehanna & Western Railroad. THSX requests relief from performing the 1472 service day inspection (SDI), for No. 142, regarding inspection of the boiler every 15 calendar years or 1472 service days. This is required under CFR 49 Section 230.17—One thousand four hundred seventy-two (1472) service day inspection. THSX is requesting an additional 58 calendar days before performing a 1472 SDI. The previous SDI was performed on September 2, 2002. Granting relief will allow No. 142 an SDI period of 15 calendar years and 58 calendar days while not exceeding 1472 service days.

No. 142 is operated by THSX on Belvedere & Delaware Railroad for weekly tourist service. THSX's justification for requesting relief is that No. 142 has only operated for a total 640 service days within the 15-calendar year period. The extension will allow No. 142 to operate through their busiest tourist season. THSX anticipates approximately 18 additional service days during the requested time extension.

A copy of the petition, as well as any written communications concerning the petition, is available for review online at www.regulations.gov and in person at the Department of Transportation's Docket Operations Facility, 1200 New Jersey Ave. SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by October 23, 2017 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Robert C. Lauby,
Associate Administrator for Railroad Safety, Chief Safety Officer.

[FR Doc. 2017-18898 Filed 9-6-17; 8:45 am]

BILLING CODE 4910-06-P